DEPARTMENT OF TRANSPORTATION

Coast Guard

33 CFR Part 160

[USCG-2001-10689]

RIN 2115-AG24

Temporary Requirements for Notification of Arrival in U.S. Ports

AGENCY: Coast Guard, DOT.

ACTION: Temporary final rule; request for comments; correction.

SUMMARY: This document corrects to the temporary final rule with request for comments published in the Federal Register of October 4, 2001. That rule temporarily changed notification requirements for vessels bound for or departing from U.S. ports. The rule temporarily lengthened the usual notification period from 24 to 96 hours prior to port entry, required submission of reports to a central national clearinghouse, suspended exemptions for vessels operating in compliance with the Automated Mutual Assistance Vessel Rescue System, for some vessels operating on the Great Lakes, and required submission of information about persons onboard these vessels.

DATE: The temporary final rule published in the Federal Register was effective on October 4, 2001. These corrections to that rule are effective on November 19, 2001.

FOR FURTHER INFORMATION CONTACT: If you have questions on this temporary rule, call LTJG Marcus A. Lines, Coast Guard, at telephone 202-267-6854. If you have questions on viewing or submitting material to the docket, call Dorothy Beard, Chief, Dockets, Department of Transportation, at telephone 202-366-5149.

SUPPLEMENTARY INFORMATION

Need for Correction

As published, the temporary final rule contains errors that create confusion for the National Vessel Movement Center (NVMC) and for vessel owners and operators required to notify the Coast Guard of their arrival at or departure from a U.S. port or place. A discussion of the errors and corrections follows:

Applicability. By error we did not update all of the cross-references in 33 CFR 160.201(g), and inadvertently removed exemptions to this rule. To correct this error, we have revised the remaining cross-references so that certain vessels continue to be exempt from the notification of arrival (NOA) and notification of departure (NOD) requirements.

Ports of arrival and departure. The NVMC needs vessel owners and operators to identify the port their vessel will arrive at so that it knows to which Captain of the Port (COTP) it must send a copy of the NOA or NOD. The language requiring only the name of the port is not sufficiently clear. We are clarifying the port arrival information requirements in 33 CFR 160.T208(c)(1), 160.T212(b)(1), and 160.T214(a)(1) and (10) by including the names of the port or place of destination, of the receiving facility, of the city, and of the state in which the port of arrival is located.

Correction

In the temporary final rule FR Doc. 01-24984, beginning on page 50565 in the issue of October 4, 2001, make the following corrections:

§ 160.201 [Amended]

1. In § 160.201 in paragraph (g) on page 50572, in the first column, remove the cross-references “160.207, 160.211, and 160.213” and add in their place “160.T208, 160.T212, and 160.T214”.

§ 160.T208 [Amended]

2. In § 160.T208 in paragraph (c)(1) on page 50572, in the third column, remove the phrase “Name of port(s) or place(s) of destination in the United States;” and add in its place “For each U.S. port of arrival, provide the names of the receiving facility, the port or place of destination, the city, and state;”.

§ 160.T212 [Amended]

3. In § 160.T212 in paragraph (b)(1) on page 50573, in the second column, remove the phrase “Name of port(s) or place(s) of destination in the United States;” and add in its place “For each U.S. port of arrival, provide the names of the receiving facility, the port or place of destination, the city, and state;”.

4. In § 160.T212 in paragraph (b)(19)(iv) on page 50573 in the third column, remove “; and” and add in its place “.”.

§ 160.T214 [Amended]

5. In § 160.T214 in paragraph (a)(1) on page 50574, in the first column, remove the phrase “Name of port(s) or place(s) of destination in the United States;” and add in its place “For each U.S. port of arrival, provide the names of the receiving facility, the port or place of destination, the city, and state;”.

6. In § 160.T214 in paragraph (a)(10) on page 50574, in the first column, remove the phrase “name of the port” and add in its place “name of the receiving facility, the port or place of destination, the city, and state”.

7. In § 160.T214 in paragraph (a)(19)(iv) on page 50574 in the second column, remove “; and” and add in its place “.”.

Dated: November 13, 2001.
Joseph J. Angelo,
Director of Standards, Marine Safety and Environmental Protection.

[FR Doc. 01-28870 Filed 11-16-01; 8:45 am]

BILLING CODE 4910-15-U